DEPARTMENT OF HEALTH AND HUMAN SERVICES

Food and Drug Administration

21 CFR Part 73

[Docket No. FDA-2011-C-0878]

Mars, Inc.; Filing of Color Additive Petition

AGENCY: Food and Drug Administration, HHS.

ACTION: Notice of petition.

SUMMARY: The Food and Drug Administration (FDA) is announcing that Mars, Inc., has filed a petition proposing that the color additive regulations be amended to provide for the safe use of spirulina blue, an extract made from the biomass of Anthrospira platensis (spirulina), to color candy and chewing gum.

FOR FURTHER INFORMATION CONTACT: Felicia M. Ellison, Center for Food Safety and Applied Nutrition (HFS-265), Food and Drug Administration, 5100 Paint Branch Pkwy., College Park, MD 20740-3835, (240) 402-1264.

SUPPLEMENTARY INFORMATION: Under the Federal Food, Drug, and Cosmetic Act (section 721(d)(1) (21 U.S.C. 379e(d)(1))), notice is given that a color additive petition (CAP 2C0293) has been filed by Mars, Inc., c/o Keller and Heckman LLP, 1001 G St. NW., suite 500 West, Washington, DC 20001. The petition proposes to amend the color additive regulations in part 73 (21 CFR part 73) Listing of Color Additives Exempt From Certification to provide for the safe use of spirulina blue, an extract made from the biomass of Anthrospira platensis (spirulina), as a color additive in candy and chewing gum.

The Agency has determined under 21 CFR 25.32(k) that this action is of a type that does not individually or cumulatively have a significant effect on the human environment. Therefore, neither an environmental assessment nor an environmental impact statement is required.

Dated: January 6, 2012.
Dennis M. Keefe,
Director, Office of Food Additive Safety, Center for Food Safety and Applied Nutrition.

[FR Doc. 2012-599 Filed 1-19-12; 8:45 am]

BILLING CODE 4160-01-P